DEPARTMENT OF THE INTERIOR

Bureau of Land Management

[CO-930-1430-ET; COC-28584]

Public Land Order No. 7453; Opening of Land Under Section 24 of the Federal Power Act; Colorado

AGENCY: Bureau of Land Management, Interior.

ACTION: Public Land Order.

SUMMARY: This order opens, subject to the provisions of Section 24 of the Federal Power Act, 40 acres of public land withdrawn by an Executive order which established Bureau of Land Management Power Site Reserve No. 92. This action will permit consummation of a pending land exchange and retain the power rights to the United States. The land has been and will remain open to mineral leasing and, under the provisions of the Mining Claims Rights Restoration Act of 1955, to mining.

EFFECTIVE DATE: September 28, 2000.

FOR FURTHER INFORMATION CONTACT: Doris E. Chelius, BLM Colorado State Office, 2850 Youngfield Street, Lakewood, Colorado 80215-7093, 303-239-3706.

By virtue of the authority vested in the Secretary of the Interior by the Act of June 10, 1920, Section 24, as amended, 16 U.S.C. 818 (1994), and pursuant to the determination of the Federal Energy Regulatory Commission in DVCO-556-000, it is ordered as follows:

1. At 9 a.m. on September 28, 2000, the following described public land withdrawn by the Executive Order dated July 2, 1910, which established Power Site Reserve No. 92, will be opened to disposal subject to the provisions of Section 24 of the Federal Power Act as specified by the Federal Energy Regulatory Commission determination DVCO-556-000, and subject to valid existing rights, the provisions of existing withdrawals, other segregations of record, and the requirements of applicable law:

Sixth Principal Meridian

T. 15 S., R. 78 W.,

Sec. 10, NW¼NE¼.

The area described contains 40 acres in Chaffee County.

2. The State of Colorado has a preference right for public highway rights-of-way or material sites for a period of 90 days from the date of publication of this order and any location, entry, selection, or subsequent patent shall be subject to any rights granted the State as provided by the Act of June 10, 1920, Section 24, as amended, 16 U.S.C. 818 (1994).

Dated: June 2, 2000.
Sylvia V. Baca,
Assistant Secretary of the Interior.

[FR Doc. 00-16460 Filed 6-28-00; 8:45 am]

BILLING CODE 4310-JB-P